DEPARTMENT OF TRANSPORTATION

Federal Motor Carrier Safety Administration

49 CFR Part 390

[Docket No. FMCSA-2022-0062]

RIN 2126-AC54

Unique Electronic Identification of Commercial Motor Vehicles

AGENCY: Federal Motor Carrier Safety Administration (FMCSA), Department of Transportation (DOT).

ACTION: Advance notice of proposed rulemaking (ANPRM) and request for comments.

SUMMARY: FMCSA requests public comment on whether the agency should amend the Federal Motor Carrier Safety Regulations to require every commercial motor vehicle (CMV) operating in interstate commerce to be equipped with electronic identification (ID) technology capable of wirelessly communicating a unique ID number when queried by a Federal or State motor carrier safety enforcement personnel. In response to a petition for rulemaking from the Commercial Vehicle Safety Alliance (CVSA), FMCSA is considering such amendments to improve the efficiency and effectiveness of the roadside inspection program by more fully enabling enforcement agencies to focus their efforts at high-risk carriers and drivers.

DATES: Comments on this notification must be received on or before November 22, 2022.

ADDRESSES: You may submit comments identified by Docket Number FMCSA-2022-0062 using any of the following methods:

• Federal eRulemaking Portal: Go to https://www.regulations.gov/docket/FMCSA-2022-0062/document. Follow the online instructions for submitting comments.

• Mail: Dockets Operations, U.S. Department of Transportation, 1200 New Jersey Avenue SE, West Building, Ground Floor, Room W12-140, Washington, DC 20590-0001.

• Hand Delivery or Courier: Dockets Operations, U.S. Department of Transportation, 1200 New Jersey Avenue SE, West Building, Ground Floor, Room W12-140, Washington, DC 20590-0001, between 9 a.m. and 5 p.m., Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Mr. Luke W. Loy, Vehicle and Roadside Operations Division, Office of Policy, FMCSA, 1200 New Jersey Avenue SE, Washington, DC 20590-0001; (202) 366-0676; Luke.Loy@dot.gov. If you have questions on viewing or submitting material to the docket, call Dockets Operations at (202) 366-9826.

SUPPLEMENTARY INFORMATION: FMCSA organizes this ANPRM as follows:

I. Public Participation and Request for Comments

A. Submitting comments

B. Viewing comments and documents

C. Privacy

II. Abbreviations

III. Legal Basis

IV. Executive Order (E.O.) 12866 (Regulatory Planning and Review) and E.O. 13563 (Improving Regulation and Regulatory Review)

V. Background

VI. Discussion of the ANPRM and Questions

I. Public Participation and Request for Comments

A. Submitting Comments

If you submit a comment, please include the docket number for this ANPRM (FMCSA-2022-0062), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2022-0062/document, click on this ANPRM, click “Comment,” and type your comment into the text box on the following screen.

If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Confidential Business Information (CBI)

CBI is commercial or financial information that is both customarily and actually treated as private by its owner. Under the Freedom of Information Act (5 U.S.C. 552), CBI is exempt from public disclosure. If your comments responsive to the ANPRM contain commercial or financial information that is customarily treated as private, that you actually treat as private, and that is relevant or responsive to the ANPRM, it is important that you clearly designate the submitted comments as CBI. Please mark each page of your submission that constitutes CBI as “PROPIN” to indicate it contains proprietary information. FMCSA will treat such marked submissions as confidential under the Freedom of Information Act, and they will not be placed in the public docket of the ANPRM. Submissions containing CBI should be sent to Mr. Brian Dahlin, Chief, Regulatory Evaluation Division, Office of Policy, FMCSA, 1200 New Jersey Avenue SE, Washington DC 20590-0001. Any comments FMCSA receives not specifically designated as CBI will be placed in the public docket for this rulemaking.

B. Viewing Comments and Documents

To view any documents mentioned as being available in the docket, go to https://www.regulations.gov/docket/FMCSA-2062-0062/document and choose the document to review. To view comments, click this ANPRM, then click “Browse Comments.” If you do not have access to the internet, you may view the docket online by visiting Dockets Operations in Room W12-140 on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

DOT solicits comments from the public to better inform its regulatory process, in accordance with 5 U.S.C. 553(c). DOT posts these comments, without edit, including any personal information the commenter provides, to www.regulations.gov, as described in the system of records notice (DOT/ALL 14—Federal Docket Management System), which can be reviewed at https://www.govinfo.gov/content/pkg/FR-2008-01-17/pdf/E8-785.pdf.

II. Abbreviations

ANPRM Advance Notice of Proposed Rulemaking

CBI Confidential Business Information

CMV Commercial Motor Vehicle

CVSA Commercial Vehicle Safety Alliance

DOT Department of Transportation

E.O. Executive Order

E-screening Electronic Screening

FMCSA Federal Motor Carrier Safety Administration

ID Identification

LPR License Plate Reader

MAP-21 Moving Ahead for Progress in the 21st Century Act

OCR Optical Character Recognition

OMB Office of Management and Budget

U.S.C. United States Code

VIN Vehicle Identification Number

III. Legal Basis for the Rulemaking

This proposed rule is based on the authority of 49 U.S.C. 31502(b) (originally enacted as part of the Motor Carrier Act of 1935). DOT is authorized by 49 U.S.C. 31502(b) to “prescribe requirements for—(1) qualifications and maximum hours of service of employees of, and safety of operation and equipment of, a motor carrier; and (2) qualifications and maximum hours of service of employees of, and standards of equipment of, a motor private carrier, when needed to promote safety of operation.”

This proposed rule is also based on the authority granted by 49 U.S.C. 31136(a) (originally enacted as part of the Motor Carrier Safety Act of 1984 (1984 Act)). DOT has authority under 49 U.S.C. 31136(a) to regulate drivers, motor carriers, and CMVs. “At a minimum, the regulations shall ensure that—(1) commercial motor vehicles are maintained, equipped, loaded, and operated safely; (2) the responsibilities imposed on operators of commercial motor vehicles do not impair their ability to operate the vehicles safely; (3) the physical condition of operators of commercial motor vehicles is adequate to enable them to operate the vehicles safely . . . ; and (4) the operation of commercial motor vehicles does not have a deleterious effect on the physical condition of the operators” (49 U.S.C. 31136(a)). In 49 U.S.C. 31136(a)(5) (enacted as part of the Moving Ahead for Progress in the 21st Century Act (MAP-21) (Pub. L. 112-141, 126 Stat. 405, 818, July 6, 2012)), there is a fifth requirement to ensure that “(5) an operator of a commercial motor vehicle is not coerced by a motor carrier, shipper, receiver, or transportation intermediary to operate a commercial motor vehicle in violation of a regulation promulgated under this section, or chapter 51 or chapter 313 of this title.”

In addition, 49 U.S.C. 31133(a) (enacted as part of the 1984 Act) includes more general authority to “(8) prescribe recordkeeping . . . requirements; . . . and (10) perform other acts the Secretary considers appropriate.”

FMCSA is considering establishing requirements consistent with these statutory provisions that would enable safety officials to more efficiently and accurately identify a vehicle's motor carrier designation (or motor carrier on record) while in operation via wireless electronic means.

FMCSA is seeking to facilitate more accurate, focused enforcement to help the Agency meet the mandate of 49 U.S.C. 31136(a)(1) to ensure that CMVs are “operated safely.” A rule stemming from information gathered as a result of this ANPRM would not address the requirements of 49 U.S.C. 31136(a)(2) through (4), and because it would only have indirect and minimal application to drivers of CMVs, FMCSA believes that coercion of drivers to violate the rule would not occur (49 U.S.C. 31136(a)(5)).

IV. Executive Order (E.O.) 12866 (Regulatory Plannng and Review) and E.O. 13563 (Improving Regulation and Regulatory Review)

The Office of Information and Regulatory Affairs within the Office of Management and Budget (OMB) determined that this ANPRM is not a significant regulatory action under section 3(f) of E.O. 12866, as supplemented by E.O. 13563, and does not require an assessment of potential costs and benefits under section 6(a)(3) of that order. Accordingly, OMB has not reviewed it under these orders.

Executive Orders 12866 and 13563 require agencies to provide a meaningful opportunity for public participation. Accordingly, the Agency has asked commenters to answer a variety of questions to elicit practical information about alternative approaches, including the associated costs and benefits of those approaches, and relevant scientific, technical, and economic data.

V. Background

FMCSA's primary mission is to reduce crashes, injuries and fatalities involving large trucks and buses.¹ There are an estimated 12 million large trucks and buses (also known collectively as CMVs) registered to operate on America's roadways.² Enforcement of safety regulations for CMV operations is a major factor in providing safer roadways.

¹ See 49 U.S.C. 113.

² See https://www.fmcsa.dot.gov/ourroads/about-campaign (last accessed Mar. 8, 2022).

Given the consistent growth in the CMV industry, the number of vehicles to regulate far outpaces enforcement resources. As such, the use of technology for CMV identification is key to efficient and productive safety regulatory oversight. Ease of identification of CMVs allows enforcement personnel to make timely and informed decisions to support their mission critical operations.

Electronic ID Technologies

Electronic ID technologies provide a means of identifying CMVs either parked or in motion. Some technologies are also capable of two-way communication of information. The technologies in use for identifying CMVs operating in the United States and its Territories include license plate readers (LPRs), wireless mobile data services,³ These technologies are used to assist businesses in tracking their inventory and operations. In addition, they also assist State and local agencies in roadside enforcement activities.

³ Report to Congress. “Safety and Efficiency Effects of Replacing Transponders with License Plate Readers to Screen Trucks at Inspection or Weigh Stations.” Pursuant to House Report 115-750 accompanying House Bill 6072 and the Joint Explanatory Statement accompanying the Consolidated Appropriations Act, 2019 (Pub. L. 116-6, 133 Stat. 13, Feb. 15, 2019). https://www.fmcsa.dot.gov/sites/fmcsa.dot.gov/files/2020-06/Transponder%20Based%20Weigh%20Station%20Technology%20Report%20Enclosure%20FINAL%20June%202020.pdf (last accessed June 15, 2022).

FMCSA currently does not require CMVs to be equipped with a system capable of transmitting a unique electronic ID (referred to as electronic ID in remainder of the document) for operation. However, FMCSA provides grant funding to States for technology projects that electronically identify a CMV, verify its size, weight, and credentials information, and review its carrier's past safety performance while the vehicle is in motion and then communicate safely to the driver to either pull in or bypass the roadside inspection station. Per Motor Carrier Safety Assistance Program (MCSAP) policy, vehicles that are: (1) properly credentialed; (2) operated by a motor carrier with a history of safe operations; and (3) within weight limits (if the site is instrumented for weight measurements) are allowed to bypass inspection facilities (although such vehicles are still subject to random inspection).⁴ Electronic screening (e-screening) projects are designed to identify high-risk motor carriers/CMVs for roadside inspection, and to reduce operating costs for safe and legal motor carriers.

⁴ https://www.fmcsa.dot.gov/mission/grants/motor-carrier-safety-assistance-program-grant-comprehensive-policy (last accessed Apr. 27, 2022).

LPR systems combine the use of a specialized plate-reader camera with advanced optical character recognition (OCR) software that can identify and match license plates with existing registration data. The readers, which can be mounted on stationary poles and police cruisers, or are available as handheld devices, also log the time and date of each scan, the vehicle's GPS coordinates, and pictures of the license plate and/or vehicle. These types of systems are often used to identify traffic violations such as speeding and failure to stop at red lights. State CMV enforcement officers use LPR systems in conjunction with FMCSA's Safety and Fitness Electronic Records System to further identify the motor carrier responsible for safety.

Similarly, a USDOT number reader uses a high-resolution image of the side of a CMV and incorporates OCR software to obtain a machine-readable DOT number in real time at highway speeds. Although a USDOT number reader and a LPR serve a limited identification function as compared to the ID technology under consideration, those devices may require more resources to identify the motor carrier responsible for safety, and a LPR or USDOT reader may not always capture the license plate or USDOT number accurately. These issues may result in compliant carriers being stopped for roadside inspections and, conversely, non-compliant or high-risk carriers being excluded from roadside inspections. Unnecessary inspections on otherwise compliant carriers leave less time for enforcement personnel to identify and conduct inspections of higher-risk carriers, and they also diminish the value of the advance e-screening for compliant carriers. Lack of inspections on non-compliant higher risk carriers may result in adverse safety events.

A transponder is a device that acts as both a transmitter and responder and is used to wirelessly receive and transmit data to automatically identify and track the object (vehicle) to which the transponder is affixed. The transponder is then associated with an account holder for identification purposes. These devices are often utilized for toll collections.

Section 4126 of SAFETEA-LU (Pub. L. 109-59, 119 Stat. 1144, Aug. 10. 2005) required transponder use as part of Commercial Vehicle Information Systems and Networks (CVISN) program's Core deployment.⁵ States installed dedicated short-range communication (DSRC) transponder systems because those were the prevalent technology at the time the CVISN program was authorized. In 2013, FMCSA issued internal guidance clarifying that transponders include both DSRC and cellular mobile radio service (CMRS) technology, in recognition that CMRS transponders accomplish what is needed and may be more widely available and less costly. With the passage of the FAST Act, and its requirement that the Secretary “establish an innovative technology deployment [(ITD)] grant program to make discretionary grants to eligible States for the innovative technology deployment of commercial motor vehicle information systems and networks,” ⁶ FMCSA replaced the CVISN program with the ITD program. Unlike the SAFETEA-LU provision, the ITD provision in the FAST Act did not specifically require transponder use. Accordingly, FMCSA amended its 2016 MCSAP Grant Comprehensive Policy ⁷ for a broader, performance-based approach to accomplishing e-screening by-pass, while still maintaining consistency with many of the concepts and definitions (including the broader definition of transponders) from the CVISN program.

⁵ The term Core deployment was defined in paragraph (g)(3) to mean the deployment of systems in a State necessary to provide the State with certain capabilities, including “(C) Roadside electronic screening to electronically screen transponder-equipped commercial vehicles at a minimum of one fixed or mobile inspection site in the State and to replicate this screening at other sites in the State.”

⁶ See 49 U.S.C. 31101(l)(3) (added by sec. 5101(a) of the FAST Act (Pub. L. 114-94, 129 Stat. 1514, 1520-1521, Dec. 4, 2015)).

⁷ https://www.fmcsa.dot.gov/sites/fmcsa.dot.gov/files/docs/Motor%20Carrier%20Safety%20Assistance%20Program%20Grant%20Comprehensive%20Policy%20v3.0%20Final%2006-10-2016.pdf (last accessed June 15, 2022).

There are two major transponder-based by-pass providers that cover a large portion of continental United States and Canada. In addition, there are a few known State systems that provide this functionality as well as other products (e.g., LPR and DOT number readers) that use the performance-based approach to provide the same service without using a traditional transponder.

Some vehicles are equipped with internet connectivity through wireless networks. Trucking companies offer wireless connections through cellular coverage areas by connecting existing wireless devices to a commercial mobile radio service. Using these services, operators of vehicles can send and receive electronic messages, order parts, and find loads.

FMCSA is undertaking an operational test of Level VIII Electronic Inspections to enhance its current process for monitoring and enforcing motor carrier and driver safety compliance. This test will provide insight into several of the issues being considered in this rulemaking. The electronic inspections being examined as part of the operational test effort would enable FMCSA to assess on-the-road safety compliance while a commercial motor vehicle (CMV) is still in motion, minimizing disruption to the motor carrier and therefore, supply chain, and doing so in a way that significantly reduces large trucks and bus emissions across the Nation. This effort would also enable FMCSA to collect more safety data about more carriers, with the goal of further reducing injuries and fatalities resulting from large truck and bus crashes.

CVSA Petition for Rulemaking

On July 26, 2010, CVSA submitted a petition for rulemaking requesting that FMCSA amend § 390.21 to require that every commercial motor vehicle, as defined in § 390.5, used in interstate commerce be equipped with an electronic device capable of communicating a unique ID number when queried by a law enforcement roadside system.⁸ CVSA contended that implementation of a mandate requiring an electronic ID would “facilitate efficiency and efficacy in the roadside inspection program by more fully enabling roadside enforcement agencies to target their efforts at high-risk operators, while at the same time, providing an incentive for safe and legal operations.” In the petition, CVSA did not recommend specific technologies or identify specific systems or solutions; it did, however, provide an extensive list of minimum suggested functional requirements. CVSA also did not explain why motor carriers using vehicles equipped with electronic ID would be more incentivized to engage in safe and legal operations, but FMCSA assumes the incentive would be not being subject to unnecessary roadside inspections.

⁸ The petition for rulemaking and request for reconsideration submitted by CVSA and the FMCSA denial letter can be found in the docket for this ANPRM at https://www.regulations.gov/search?filter=FMCSA-2022-0062.

FMCSA denied the petition for rulemaking on May 24, 2013. While FMCSA agreed that the use of automated systems to positively identify CMVs via an electronic device placed on each CMV would be both feasible and supportable given available technologies, the Agency stated it would be inappropriate to grant the petition because the Agency lacked information necessary to estimate the costs and benefits of an electronic ID mandate. FMCSA noted that, before undertaking rulemaking, it would be prudent to:

(1) Fully explore the costs and safety benefits associated with a rule to require the use of electronic ID systems on all CMVs;

(2) Explore the currently available technological options; and

(3) Work cooperatively with the Federal Highway Administration, CVSA, and other interested parties to develop a technically sound, cost-effective, long-term approach to identifying CMVs at roadside.

On February 20, 2015, CVSA asked FMCSA to reconsider its denial issued May 24, 2013, and provided information to address the deficiencies the Agency had identified in the original petition response. After considering the additional information provided by CVSA, FMCSA granted the petition for rulemaking on November 2, 2015. The petition, 2013 denial letter, request for reconsideration, and 2015 grant letter are available in the docket for this rulemaking.

Electronic ID in the CMV Industry — Studies or Reports

The Joint Explanatory Statement accompanying the Consolidated Appropriations Act, 2019, (Pub. L. 116-6, 133 Stat. 13, Feb. 15, 2019) ⁹ requested that DOT submit certain reports, including the report “Safety and Efficiency Effects of Replacing Transponders with License Plate Readers to Screen Trucks at Inspection or Weigh Stations: Report to Congress.” ¹⁰ In the report, FMCSA studied the impact of replacing existing e-screening transponder systems with LPRs at truck inspection or weigh stations.

⁹ FMCSA notes that in the 2017 Consolidated Appropriations Act (Pub. L. 115-31, 131 Stat. 135, 742, May 5, 2017), FMCSA was prohibited from using funds made available by that Act or previous appropriations Acts to pay for costs associated with design, development, testing, or implementation of a wireless roadside inspection program until 180 days after the Secretary of Transportation certifies to the House and Senate Committees on Appropriations that “such program does not conflict with existing non-Federal electronic screening systems, create capabilities already available, or require additional statutory authority to incorporate generated inspection data into safety determinations or databases, and has restrictions to specifically address privacy concerns of affected motor carriers and operators.” As a result of this language, effective May 6, 2017, FMCSA discontinued its wireless roadside inspection pilot program, and announced it would not be collecting, monitoring, or reviewing data related to the wireless roadside inspection pilot program until Congress appropriates funds for it to do so.

¹⁰ See https://www.fmcsa.dot.gov/sites/fmcsa.dot.gov/files/2020-06/Transponder%20Based%20Weigh%20Station%20Technology%20Report%20Enclosure%20FINAL%20June%202020.pdf/ (last accessed June 14, 2022).

The report found that LPR/USDOT number readers and transponders each improve the ability to electronically identify CMVs while the vehicle is in motion compared to the manual verification done at roadside inspection sites. Specifically, LPR/USDOT number readers identify the majority of the carrier population (at least 80 percent), including carriers with poor safety records and those enrolled in a traditional transponder-based bypass system. Transponder and app-based (i.e., wireless network-based) systems offer improved identification accuracy for a limited portion (13 percent) of the carrier population. Participation in these systems is voluntary for fleets, and participating fleets must maintain safety standards set by member States to stay enrolled. The systems use the same algorithm to inform inspection selection based on safety factors. However, the report found that regardless of the e-screening system in use at a weigh or inspection station, inspectors still often rely on visual cues and other factors (e.g., site layout and capacity) to inform inspection decisions.

VI. Discussion of ANPRM and Questions

FMCSA is considering a rulemaking to require all CMVs operating in interstate commerce to have an electronic ID system. FMCSA is therefore soliciting further information regarding various aspects of electronic identification including the best possible technical and operational concepts along with associated costs, benefits, security, vulnerability, privacy and other relevant deployment and operational implications. The questions are organized by topic. As noted in the instructions for submitting comments in Section I.A., above, FMCSA requests that commenters provide a reason for each suggestion or recommendation.

1. General

a. Should a device capable of transmitting an electronic ID be permanently affixed or removable/transferrable to CMVs currently in operation? Would FMCSA's rule need to specify?

b. What data should be included as part of the electronic ID (e.g., carrier name, carrier contact information, vehicle ID number, license plate number, USDOT number, and gross vehicle weight rating)?

• Should the information be limited to non-PII information? If not, why not?

• Should it include information specific to the driver (e.g., hours of service, Commercial Driver's License compliance, and medical certification)?

• Should it also include information that may vary from trip to trip (e.g., axle weight, pre-trip inspection date and time, and GPS coordinates and time when requested)?

• Depending on how you answer the above questions, should the electronic ID be transferrable in the event of a CMV sale?

• Depending on how you answer the above questions, who should be responsible for providing the data set (see question 1.b.) associated with the electronic ID for a CMV (i.e., driver, carrier, third party)?

c. Depending on the scope of the data you believe is necessary in 1.b., how should the data be transmitted and received?

• Can existing technology (e.g., ELDs) be used to collect and transmit the electronic ID data and receive a response from enforcement officials?

• How far in advance (time, distance) does a state need to gather the electronic ID information to positively ID a vehicle and message the vehicle whether further inspection is required?

• Should FMCSA propose a standard for the method of data transmission, and, if so, what should it be, or do you believe a voluntary standard can be developed?

d. Are there reports or studies not already referenced above available regarding the use of electronic devices to identify CMVs that FMCSA may find useful in finding a technically sound, cost-effective, long-term means to identify CMVs at roadside? If so, please provide the references in your responses.

e. Should the electronic ID be limited only to CMV power units (e.g., motorcoaches, truck-tractors) or also include trailers?

f. How would an electronic ID apply to rented or leased vehicles that are operated by different carriers or parties throughout the course of the year?

g. How would or should an electronic ID be tied to States' CMV record keeping (e.g., International Registration Plan registration, Performance and Registration Information Systems Management (PRISM))?

h. Are there privacy, health, or coercion concerns FMCSA should consider in a future proposal?

2. Functionality

a. Should the electronic ID framework be flexible so that functionality could be added later, as new safety and other vehicle technologies emerge?

b. What operational and/or technical processes should be in place for handling situations where messages or data concerning the electronic ID do not send or receive correctly?

c. How quickly can malfunctions in any electronic ID system be located and corrected?

d. What cybersecurity issues (e.g., “spoofing,” and interference) should FMCSA consider in a future electronic ID proposal? Compare and contrast such concerns with the current electronic ID systems.

e. How could tampering be prevented if some or all data entry or transfer is performed manually?

3. Populations Affected

a. What is the population of trucks that already have a type of electronic ID technology (e.g., PrePass, Drivewyze)?

b. What is the percentage of carriers that are not identified through current electronic screening capabilities? Please provide any supporting studies or reports.

4. Cost/Benefits

a. What are the current and potential future safety benefits of electronic IDs?

• Are there studies or reports that provide data to support the benefits of electronic IDs?

• Would implementing an electronic ID requirement lower crash rates, if so, how?

b. How would requiring an electronic ID impact the overall effectiveness of State CMV inspection programs?

c. How much time would compliant motor carriers save if an electronic ID were to be required?

d. What is the cost of adding electronic ID technology by type (e.g., transponder, wireless, software, etc.)?

e. What is the cost of electronic ID equipment for States, carriers, and drivers?

f. What is the cost of maintaining/operating electronic ID equipment (e.g., internet connection, inspection, repair, third party contracting fees, etc.)?

g. What is the additional administrative burden (time and costs not already associated with vehicle or carrier registration) for registering the electronic ID and updating the registration as necessary to ensure that it is associated with the current motor carrier responsible for safety?

5. Other

a. Is there any other information associated with electronic IDs that FMCSA should consider? Please describe.

Issued under the authority of delegation in 49 CFR 1.87.
Robin Hutcheson,
Deputy Administrator.

[FR Doc. 2022-20643 Filed 9-22-22; 8:45 am]

BILLING CODE 4910-EX-P